DEPARTMENT OF HEALTH AND HUMAN SERVICES

Administration for Children and Families

Proposed Information Collection Activity; Comment Request

Proposed Projects

Title: Form CB-496: Title IV-E Programs Quarterly Financial Report.

OMB No.: 0970-0205.

Description: This is a financial report submitted following the end of each fiscal quarter by each State or Tribe with an approved title IV-E plan administering any of three title IV-E entitlement grant programs—Foster Care, Adoption Assistance or Guardianship Assistance.

The purpose of this form is to enable each State or Tribe to meet its statutory and regulatory requirement to report program expenditures made in the preceding fiscal quarter and to estimate program expenditures to be made in the upcoming fiscal quarter. This form also allows States and Tribes to report the actual and estimated average monthly number of children assisted in each of the three IV-E entitlement grant programs in the preceding and upcoming fiscal quarters, respectively.

The Administration for Children and Families provides Federal funding at the rate of 50 percent for nearly all allowable and legitimate administrative costs of these programs and at other funding rates for other specific categories of costs as detailed in Federal statute and regulations. The information collected in this report is used by this agency to calculate quarterly Federal grant awards and to enable oversight of the financial management of the programs.

Respondents: States (including Puerto Rico and the District of Columbia) and Tribes* with approved title IV-E plans. (*An estimated 10 Tribes will have approved title IV-E plans within the next 3-year period.)

Annual Burden Estimates
Instrument | Number of respondents | Number of responses per respondent | Average burden hours per response | Total burden hours
Form CB-496: Title IV-E Programs Quarterly Financial Report | 62 | 4 | 20 | 4,960

Estimated Total Annual Burden Hours: 4,960.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2012-28340 Filed 11-21-12; 8:45 am]

BILLING CODE 4184-01-P